DEPARTMENT OF AGRICULTURE

Office of the Secretary

USDA Increases the Fiscal Year 2011 Tariff-Rate Quota for Refined Sugar

AGENCY: Office of the Secretary, USDA.

ACTION: Notice.

SUMMARY: The Secretary of Agriculture today announced an increase in the fiscal year (FY) 2011 refined sugar tariff-rate quota (TRQ) of 136,078 metric tons raw value (MTRV).

DATES: Effective: October 3, 2011.

FOR FURTHER INFORMATION CONTACT: Angel F. Gonzalez, Import Policies and Export Reporting Division, Foreign Agricultural Service, AgStop 1021, U.S. Department of Agriculture, Washington, DC 20250-1021; or by telephone (202) 720-2916; or by fax to (202) 720-0876; or by e-mail to angel.f.gonzalez@fas.usda.gov.

SUPPLEMENTARY INFORMATION: A quantity of 22,000 MTRV for sugars, syrups, and molasses (collectively referred to as refined sugar) described in subheadings 1701.12.10, 1701.91.10, 1701.99.10, 1702.90.10, and 2106.90.44 of the U.S. Harmonized Tariff Schedule (HTS) is the minimum level necessary to comply with U.S. World Trade Organization Uruguay Round Agreements, of which 1,656 MTRV is the minimum quantity to be reserved for specialty sugar. On August 5, 2010, USDA established the FY 2011 (October 1, 2010—September 30, 2011) refined sugar TRQ at an aggregate quantity of 99,111 MTRV, of which 20,344 MTRV, was refined sugar other than specialty sugar. On August 17, 2010, the Office of the U.S. Trade Representative (USTR) allocated this refined sugar as follows: 10,300 MTRV to Canada; 2,954 MTRV to Mexico; and 7,090 MTRV to be administered on a first-come, first-served basis. On August 2, 2011, the Secretary of Agriculture (the Secretary) increased the FY 2011 specialty sugar TRQ by 9,072 MTRV, resulting in an FY 2011 specialty sugar TRQ to 87,839 MTRV, and an FY 2011 refined sugar TRQ to 108,183 MTRV.

The Secretary today announced an increase in the FY 2011 refined sugar TRQ of 136,078 MTRV, to a total of 244,261 MTRV. The authority to increase the refined sugar TRQ is found in the HTS, Chapter 17, Additional U.S. Note 5(a)(ii). The Secretary also announced that sugar entering under the FY 2011 refined sugar TRQ would be permitted to enter until November 30, 2011. Authority for the Secretary to permit entry of sugar in a subsequent quota period is found in the HTS, Chapter 17, Additional U.S. Note 5(a)(iv).

USTR will allocate this increase among supplying countries and customs areas. This action is being taken after a determination that additional supplies of refined sugar are necessary to reduce risks associated with adverse weather and other supply disruptions. Harvest of the FY 2012 sugar beet crop is significantly slower to date than during several of the previous fiscal years. USDA will closely monitor stocks, consumption, imports and all sugar market and program variables on an ongoing basis.

* Conversion factor: 1 metric ton = 1.10231125 short tons.

Dated: September 27, 2011.
Darci L. Vetter,
Acting Under Secretary, Farm and Foreign Agricultural Service.

[FR Doc. 2011-25329 Filed 9-30-11; 8:45 am]

BILLING CODE 3410-10-P